JOINT BOARD FOR ENROLLMENT OF ACTUARIES

Privacy Act of 1974, as Amended

AGENCY: Joint Board for the Enrollment of Actuaries.

ACTION: Notice of proposed alterations to three Privacy Act systems of records.

SUMMARY: In accordance with the requirements of the Privacy Act of 1974, as amended, the Joint Board for the Enrollment of Actuaries (Joint Board) gives notice of proposed alterations to three Privacy Act systems of records related to its functions: JBEA-2, Charge Case Inventory Files; JBEA-4, Enrollment Files; and JBEA-6, General Correspondence File.

DATES: Comments must be received no later than January 21, 2011. The proposed altered systems will become effective January 31, 2011, unless the Joint Board receives comments which cause reconsideration of this action.

ADDRESSES: Comments should be sent to: Executive Director, Joint Board for the Enrollment of Actuaries, c/o Internal Revenue Service/Office of Professional Responsibility, SE:OPR, 1111 Constitution Avenue, NW., Washington, DC 20224. Comments will be available for inspection and copying in the Internal Revenue Service Freedom of Information Reading Room (Room 1621) at the above address. The telephone number for the Reading Room is (202) 622-5164 (not a toll-free number).

FOR FURTHER INFORMATION CONTACT: Earl Prater, Senior Counsel, Office of Professional Responsibility, at (202) 622-8018 (not a toll-free number).

SUPPLEMENTARY INFORMATION: Pursuant to section 3041 of the Employee Retirement Income Security Act of 1974 (ERISA), 29 U.S.C. 1241, the Secretary of Labor and the Secretary of the Treasury established the Joint Board. The Joint Board consists of three members appointed by the Secretary of the Treasury and two members appointed by the Secretary of Labor. A non-voting representative of the Pension Benefit Guaranty Corporation participates in the Joint Board's discussions. The Joint Board, in carrying out its responsibilities under ERISA, is advised and assisted by the Executive Director, a position established within the Office of Professional Responsibility, Internal Revenue Service.

Section 3042 of ERISA provides that the Joint Board shall, by regulations, establish reasonable standards and qualifications for individuals performing actuarial services pertaining to plans covered by ERISA and shall enroll such individuals if the Joint Board finds they satisfy such standards and qualifications. Section 3042 of ERISA also provides that the Joint Board may, after notice and an opportunity for a hearing, suspend or terminate the enrollment of an individual if the Joint Board finds that such individual has failed to discharge his or her duties under ERISA or does not satisfy the requirements for enrollment that were in effect at the time of enrollment. The Joint Board's regulations are set out at 20 CFR parts 900 through 903.

The Joint Board currently maintains nine Privacy Act systems of records related to its functions. As described below, the Joint Board proposes to consolidate the nine current systems into three altered systems: JBEA-2, Enrolled Actuary Disciplinary Records; JBEA-4, Enrolled Actuary Enrollment Records; and JBEA-6, Correspondence and Miscellaneous Records.

(1) JBEA-2—Charge Case Inventory Files

The following alterations to this system of records are proposed:

(a) To change the title of the system to “Enrolled Actuary Disciplinary Records”;

(b) To consolidate in this system of records all disciplinary-related records from this system and from the following systems—

JBEA-4, Enrollment Files;

JBEA-8, Suspension and Termination Files;

JBEA-9, Suspension and Termination Roster;

(c) To make necessary additions to Categories of Individuals Covered by the System, Categories of Records in the System, and Retrievability;

(d) To add to the system notice the required data elements of Purpose(s) and Record Source Categories;

(e) To restate, for clarity and specificity, a routine use authorizing disclosure to the Department of Justice for advice or action;

(f) To restate, for clarity and specificity, a routine use authorizing disclosure in response to a court subpoena and for other litigation purposes;

(g) To restate, for clarity and specificity, a routine use authorizing disclosure to a Federal agency in response to its request in connection with the hiring or retaining of an employee, the issuance of a security clearance, the letting of a contract, or the issuance of a license, grant, or other benefit, and to include in the routine use disclosure to a state, local, tribal, or foreign agency, or other public authority;

(h) To restate, for clarity and specificity, a routine use authorizing disclosure to law enforcement authorities of apparent violations of civil or criminal law;

(i) To add a routine use authorizing disclosure to a contractor to the extent necessary to perform the contract;

(j) To restate, for clarity and specificity, a routine use authorizing disclosure to investigative offices of other agencies for development of facts, and to include in the routine use disclosure to other third parties during an investigation;

(k) To incorporate a routine use from JBEA-1, JBEA-3, JBEA-4, and JBEA-8 authorizing disclosure to the Department of Labor and the Department of the Treasury for purposes of administering ERISA, to include in the routine use disclosure to officers and employees of the Department of Labor, the Department of the Treasury, and the Pension Benefit Guaranty Corporation who have a need for the information in the performance of their duties in connection with administering and enforcing ERISA, ERISA-related programs, or the Joint Board's regulations, or in connection with administering and maintaining standards of integrity, conduct, and discipline on the part of individuals authorized to practice, or who seek authorization to practice, before such agencies, and to restate the routine use for clarity and specificity;

(l) To add a routine use authorizing the Joint Board to make available for public inspection or otherwise disclose to the general public (including via Web sites) the Joint Board's final agency decisions on appeal in disciplinary proceedings and administrative law judges' decisions that have become final agency decisions upon the expiration of the appeal period;

(m) To incorporate a routine use from JBEA-9, Suspension and Termination Roster, authorizing disclosure to the public, pursuant to “5 U.S. Code, Section 552” (the Freedom of Information Act), of the list of actuaries whose enrollment has been suspended or terminated, to delete the reference to “5 U.S. Code, Section 552,” to include in the routine use authority to make available for public inspection or otherwise disclose (including via Web sites) to the general public, after the subject individual has exhausted administrative appeal rights, the name, mailing address, type of disciplinary sanction, effective dates, and information about the conduct that gave rise to the sanction pertaining to individuals who have received disciplinary sanctions, and to restate the routine use for clarity and specificity;

(n) To add a routine use authorizing disclosure of information to a public, quasi-public, or private professional authority, agency, organization, or association, which individuals covered by this system of records may be licensed by, subject to the jurisdiction of, a member of, or affiliated with, including but not limited to state bars and certified public accountancy boards, to assist such authorities, agencies, organizations, or associations in meeting their responsibilities in connection with the administration and maintenance of standards of integrity, conduct, and discipline;

(o) To add a routine use authorizing disclosure of information concerning the status of disciplinary investigations to individuals who send the Joint Board information concerning possible violations of the regulations;

(p) To add a routine use authorizing disclosure to the Office of Personnel Management of the identity and status of disciplinary cases in order for the Office of Personnel Management to process requests for assignment of administrative law judges to conduct disciplinary proceedings;

(q) To add a routine use authorizing disclosure to appropriate agencies, entities, and persons when the Joint Board suspects or has confirmed that the security or confidentiality of information in the system of records has been compromised, the Joint Board has determined that there is a risk of harm to economic or property interests, identity theft or fraud, or harm to the security or integrity of this system or other systems or programs that rely upon the compromised information, and the disclosure is reasonably necessary to assist in connection with the Joint Board's efforts to respond and prevent, minimize, or remedy harm;

(r) To delete, as redundant to section (b)(1) of the Privacy Act, which permits disclosures within an agency, a routine use stated as “Determinations as to whether individuals' enrollment to perform actuarial services with respect to plans to which ERISA applies should be suspended or terminated”;

(s) To delete an unnecessary routine use authorizing disclosure to congressional offices in response to inquiries from constituents, who authorize disclosure by consent; and

(t) To make necessary “housekeeping” alterations, such as updating addresses.

(2) JBEA-4—Enrollment Files

The following alterations to this system of records are proposed:

(a) To change the title of the system to “Enrolled Actuary Enrollment Records”;

(b) To consolidate in this system of records all enrollment-related records from this system and from the following systems—

JBEA-1, Application Files;

JBEA-2, Charge Case Inventory Files;

JBEA-3, Denied Applications;

JBEA-5, Enrollment Roster;

JBEA-7, General Information;

JBEA-8, Suspension and Termination Files;

JBEA-9, Suspension and Termination Roster;

(c) To make necessary additions to Categories of Individuals Covered by the System, Categories of Records in the System, and Retrievability;

(d) To add to the system notice the required data elements of Purpose(s) and Record Source Categories;

(e) To restate, for clarity and specificity, a routine use authorizing disclosure to the Department of Justice for advice or action;

(f) To restate, for clarity and specificity, a routine use authorizing disclosure in response to a court subpoena and for other litigation purposes;

(g) To restate, for clarity and specificity, a routine use authorizing disclosure to a Federal agency in response to its request in connection with the hiring or retaining of an employee, the issuance of a security clearance, the letting of a contract, or the issuance of a license, grant, or other benefit, and to include in the routine use disclosure to a state, local, tribal, or foreign agency, or other public authority;

(h) To restate, for clarity and specificity, a routine use authorizing disclosure to law enforcement authorities of apparent violations of civil or criminal law;

(i) To add a routine use authorizing disclosure to a contractor to the extent necessary to perform the contract;

(j) To incorporate from JBEA-2 and JBEA-7 a routine use authorizing disclosure to investigative offices of other agencies for development of facts, to include in the routine use disclosure to other third parties during an investigation, and to restate the routine use for clarity and specificity;

(k) To restate, for clarity and specificity, a routine use authorizing disclosure to the Department of Labor and the Department of the Treasury for purposes of administering ERISA and to include in the use disclosure to officers and employees of the Department of Labor, the Department of the Treasury, and the Pension Benefit Guaranty Corporation who have a need for the information in the performance of their duties in connection with administering and enforcing ERISA, ERISA-related programs, or the Joint Board's regulations, or in connection with administering and maintaining standards of integrity, conduct, and discipline on the part of individuals authorized to practice, or who seek authorization to practice, before such agencies;

(l) To restate, for clarity and specificity, a routine use authorizing the verification of enrollment status and to include in the routine use authority to make available for public inspection or otherwise disclose to the general public (including via Web sites) the name, enrollment number, enrollment status, including effective dates, as well as mailing address, firm or company name, telephone number, fax number, e-mail address, and Web site address, pertaining to individuals who are, or were, enrolled actuaries;

(m) To add a routine use authorizing disclosure of information to a public, quasi-public, or private professional authority, agency, organization, or association, which individuals covered by this system of records may be licensed by, subject to the jurisdiction of, a member of, or affiliated with, including but not limited to state bars and certified public accountancy boards, to assist such authorities, agencies, organizations, or associations in meeting their responsibilities in connection with the administration and maintenance of standards of integrity, conduct, and discipline;

(n) To add a routine use authorizing disclosure to appropriate agencies, entities, and persons when the Joint Board suspects or has confirmed that the security or confidentiality of information in the system of records has been compromised, the Joint Board has determined that there is a risk of harm to economic or property interests, identity theft or fraud, or harm to the security or integrity of this system or other systems or programs that rely upon the compromised information, and the disclosure is reasonably necessary to assist in connection with the Joint Board's efforts to respond and prevent, minimize, or remedy harm;

(o) To delete, as redundant to section (b)(1) of the Privacy Act, which permits disclosures within an agency, a routine stated as “Use in conjunction with disciplinary actions pursuant to Title 29 U.S. Code, Section 1242”;

(p) To delete an unnecessary routine use authorizing disclosure to congressional offices in response to inquiries from constituents, who authorize disclosure by consent; and

(q) To make necessary “housekeeping” alterations, such as updating addresses.

(3) JBEA-6, General Correspondence File

The following alterations to this system of records are proposed:

(a) To change the title of the system to “Correspondence and Miscellaneous Records”;

(b) To make necessary additions to Categories of Individuals Covered by the System, Categories of Records in the System, Retrievability, and Record Source Categories;

(c) To add to the system notice the required data element of Purpose(s);

(d) To incorporate from JBEA-1, JBEA-2, JBEA-4, JBEA-7, and JBEA-8 a routine use authorizing disclosure to the Department of Justice for advice or action and to restate the routine use for clarity and specificity;

(e) To restate, for clarity and specificity, a routine use authorizing disclosure in response to a court subpoena and for other litigation purposes;

(f) To restate, for clarity and specificity, a routine use authorizing disclosure to a Federal agency in response to its request in connection with the hiring or retaining of an employee, the issuance of a security clearance, the letting of a contract, or the issuance of a license, grant, or other benefit, and to include in the routine use disclosure to a state, local, tribal, or foreign agency, or other public authority;

(g) To incorporate from JBEA-1, JBEA-2, JBEA-3, JBEA-4, JBEA-7, and JBEA-8 a routine use authorizing disclosure to law enforcement authorities of apparent violations of civil or criminal law and to restate the routine use for clarity and specificity;

(h) To add a routine use authorizing disclosure to a contractor to the extent necessary to perform the contract;

(i) To incorporate a routine use from JBEA-1, JBEA-3, JBEA-4, and JBEA-8 authorizing disclosure to the Department of Labor and the Department of the Treasury for purposes of administering ERISA, to include in the routine use disclosure to officers and employees of the Department of Labor, the Department of the Treasury, and the Pension Benefit Guaranty Corporation who have a need for the information in the performance of their duties in connection with administering and enforcing ERISA, ERISA-related programs, or the Joint Board's regulations, or in connection with administering and maintaining standards of integrity, conduct, and discipline on the part of individuals authorized to practice, or who seek authorization to practice, before such agencies, and to restate the routine use for clarity and specificity;

(j) To add a routine use authorizing disclosure to appropriate agencies, entities, and persons when the Joint Board suspects or has confirmed that the security or confidentiality of information in the system of records has been compromised, the Joint Board has determined that there is a risk of harm to economic or property interests, identity theft or fraud, or harm to the security or integrity of this system or other systems or programs that rely upon the compromised information, and the disclosure is reasonably necessary to assist in connection with the Joint Board's efforts to respond and prevent, minimize, or remedy harm;

(k) To delete a routine use stated as “Provide answers to inquiries or other information regarding the operation of the Joint Board,” because records that are individually identifiable may be disclosed under other proposed routine uses of this system, and because records pertaining to Joint Board operations that are not individually identifiable are not protected by the Privacy Act;

(l) To delete an unnecessary routine use authorizing disclosure to congressional offices in response to inquiries from constituents, who authorize disclosure by consent; and

(m) To make necessary “housekeeping” alterations, such as updating addresses.

The following systems of records will be deleted upon implementation of the altered systems:

JBEA-1, Application Files;

JBEA-3, Denied Applications;

JBEA-5, Enrollment Roster;

JBEA-7, General Information;

JBEA-8, Suspension and Termination Files;

JBEA-9, Suspension and Termination Roster.

The report of the altered systems of records, as required by 5 U.S.C. 552a(r) of the Privacy Act, has been submitted to the Committee on Oversight and Government Reform of the House of Representatives, the Committee on Homeland Security and Governmental Affairs of the Senate, and the Office of Management and Budget (OMB), pursuant to Appendix I to OMB Circular A-130, “Federal Agency Responsibilities for Maintaining Records About Individuals.”

The three proposed altered systems of records, described above, are published in their entirety below.

Dated: November 4, 2010.
Carolyn E. Zimmerman,
Chair, Joint Board for the Enrollment of Actuaries.

JBEA-2

SYSTEM NAME:

Enrolled Actuary Disciplinary Records—JBEA-2.

SYSTEM LOCATION:

Office of the Executive Director, Joint Board for the Enrollment of Actuaries (Joint Board), located within the Office of Professional Responsibility, Internal Revenue Service, Washington, DC; and Memphis, Tennessee.

CATEGORIES OF INDIVIDUALS COVERED BY THE SYSTEM:

Current and former subjects and potential subjects of disciplinary actions and proceedings relating to enrolled actuaries, including those who received disciplinary sanctions.

CATEGORIES OF RECORDS IN THE SYSTEM:

Information sent to, or collected by, the Executive Director concerning potential violations of the Joint Board's regulations; records pertaining to the Executive Director's investigation and evaluation of such information; records of disciplinary proceedings brought by the Executive Director before administrative law judges, including records of appeals from decisions in such proceedings; petitions for reinstatement as an enrolled actuary; and the Executive Director's and the Joint Board's decisions, letters, and other responses to individuals covered by this system.

AUTHORITY FOR MAINTENANCE OF THE SYSTEM:

Employee Retirement Income Security Act of 1974 (ERISA), Section 3042 (29 U.S.C. 1242).

PURPOSE(S):

To enforce and administer the regulations (20 CFR parts 900-903) of the Joint Board governing practice as an enrolled actuary under ERISA; to make available to the general public information about disciplinary sanctions; and to assist public, quasi-public, or private professional authorities, agencies, organizations, and associations, and other law enforcement and regulatory authorities in the performance of their duties in connection with the administration and maintenance of standards of integrity, conduct, and discipline.

ROUTINE USES OF RECORDS MAINTAINED IN THE SYSTEM, INCLUDING CATEGORIES OF USERS AND THE PURPOSES OF SUCH USES:

Disclosure of returns and return information may be made only as provided by 26 U.S.C. 6103. All other records may be used as described below if the Joint Board deems the purpose of the disclosure to be compatible with the purpose for which the Joint Board collected the records and no privilege is asserted:

(1) Disclose information to the Department of Justice when seeking legal advice or for use in any proceeding, or in preparation for any proceeding, when: (a) The Joint Board, the Department of Labor, the Department of the Treasury, or the Pension Benefit Guaranty Corporation, or any component thereof; (b) any employee of such agencies in his or her official capacity; (c) any employee of such agencies in his or her individual capacity if the employing agency or the Department of Justice has agreed to provide representation for the employee; or (d) the United States is a party to, has an interest in, or is likely to be affected by, the proceeding; and the Joint Board determines that the information is relevant and necessary to the proceeding or advice sought.

(2) Disclose information during a proceeding before a court, administrative tribunal, or other adjudicative body when: (a) The Joint Board, the Department of Labor, the Department of the Treasury, or the Pension Benefit Guaranty Corporation, or any component thereof; (b) any employee of such agencies in his or her official capacity; (c) any employee of such agencies in his or her individual capacity if the employing agency or the Department of Justice has agreed to provide representation for the employee; or (d) the United States is a party to, has an interest in, or is likely to be affected by, the proceeding; and the Joint Board or the Department of Justice determines that the information is relevant and necessary to the proceeding. Information may be disclosed to the adjudicative body to resolve issues of relevancy, necessity, or privilege pertaining to the information.

(3) Disclose information to a Federal, state, local, tribal, or foreign agency, or other public authority, which has requested information relevant or necessary to hiring or retaining an employee or to issuing, or continuing, a contract, security clearance, license, grant, or other benefit.

(4) Disclose information to a Federal, state, local, tribal, or foreign agency or other public authority responsible for implementing or enforcing, or for investigating or prosecuting, the violation of a statute, rule, regulation, order, or license when a record on its face, or in conjunction with other records, indicates a violation or potential violation of law or regulation and the information disclosed is relevant to any regulatory, enforcement, investigative, or prosecutorial responsibility of the receiving authority.

(5) Disclose information to a contractor to the extent necessary to perform the contract.

(6) Disclose information to third parties during the course of an investigation to the extent deemed necessary by the Joint Board to obtain information pertinent to the investigation.

(7) Disclose information to officers and employees of the Department of Labor, the Department of the Treasury, and the Pension Benefit Guaranty Corporation who have a need for the information in the performance of their duties in connection with administering and enforcing ERISA, ERISA-related programs, or the Joint Board's regulations, or in connection with administering and maintaining standards of integrity, conduct, and discipline on the part of individuals authorized to practice, or who seek authorization to practice, before such agencies.

(8) Make available for public inspection or otherwise disclose to the general public (including via Web sites) the Joint Board's final agency decisions on appeal in disciplinary proceedings and administrative law judges' decisions that have become final agency decisions upon the expiration of the appeal period.

(9) Make available for public inspection or otherwise disclose (including via Web sites) to the general public, after the subject individual has exhausted administrative appeal rights, the name, mailing address, type of disciplinary sanction, effective dates, and information about the conduct that gave rise to the sanction pertaining to individuals who have received disciplinary sanctions.

(10) Disclose information to a public, quasi-public, or private professional authority, agency, organization, or association, which individuals covered by this system of records may be licensed by, subject to the jurisdiction of, a member of, or affiliated with, including but not limited to state bars and certified public accountancy boards, to assist such authorities, agencies, organizations, or associations in meeting their responsibilities in connection with the administration and maintenance of standards of integrity, conduct, and discipline.

(11) Disclose upon written request to a member of the public who has submitted to the Joint Board written information concerning potential violations of the regulations: (a) That the Executive Director is currently investigating or evaluating the information; or (b) that the Executive Director has determined that no action will be taken, because disciplinary jurisdiction is lacking, because a disciplinary proceeding would be time-barred, or because the information does not constitute actionable violations of the regulations; or (c) that the Executive Director has determined that the reported conduct does not warrant suspension or termination; and (d) if applicable, the name of the public, quasi-public, or private professional authority, agency, organization, or association, other law enforcement or regulatory authority, or bureau or office within the Department of Labor, Department of the Treasury, or Pension Benefit Guaranty Corporation to which the Joint Board or Executive Director has referred the information.

(12) Disclose to the Office of Personnel Management the identity and status of disciplinary cases in order for the Office of Personnel Management to process requests for assignment of administrative law judges employed by other Federal agencies to conduct disciplinary proceedings.

(13) Disclose information to appropriate agencies, entities, and persons when (a) the Joint Board suspects or has confirmed that the security or confidentiality of information in the system of records has been compromised; (b) the Joint Board has determined that as a result of the suspected or confirmed compromise there is a risk of harm to economic or property interests, identity theft or fraud, or harm to the security or integrity of this system or other systems or programs (whether maintained by the Joint Board or another agency or entity) that rely upon the compromised information; and (c) the disclosure made to such agencies, entities, and persons is reasonably necessary to assist in connection with the Joint Board's efforts to respond to the suspected or confirmed compromise and prevent, minimize, or remedy such harm.

POLICIES AND PRACTICES FOR STORING, RETRIEVING, ACCESSING, RETAINING, AND DISPOSING OF RECORDS IN THE SYSTEM:

STORAGE:

Paper and electronic media.

RETRIEVABILITY:

By individual's name. Non-unique names will be distinguished by addresses.

SAFEGUARDS:

Access controls are not less than those provided in Internal Revenue Manual (IRM) 10.8.1, Information Technology (IT) Security—Policy and Guidance, and IRM 10.2.1, Physical Security Program.

RETENTION AND DISPOSAL:

No records will be destroyed until the National Archives and Records Administration approves a records control schedule. The Joint Board proposes the following schedule: Retire records in disciplinary files to a Federal Records Center 20 years after files are closed; destroy 25 years after closing. Destroy records in files that did not generate an open disciplinary case five years after the date of the last record added to the file.

SYSTEM MANAGER(S) AND ADDRESS:

Executive Director, Joint Board for the Enrollment of Actuaries, c/o Internal Revenue Service/Office of Professional Responsibility, SE:OPR, 1111 Constitution Avenue, NW., Washington, DC 20224.

NOTIFICATION PROCEDURE:

This system of records is exempt from the notification provisions of the Privacy Act.

RECORD ACCESS PROCEDURES:

This system of records is exempt from the record access provisions of the Privacy Act.

CONTESTING RECORD PROCEDURES:

This system of records is exempt from the record contesting provisions of the Privacy Act.

RECORD SOURCE CATEGORIES:

Individuals covered by this system of records; witnesses; Federal or state courts, agencies, bodies, and other licensing authorities; professional organizations and associations; Treasury Department records; and public records.

EXEMPTIONS CLAIMED FOR THE SYSTEM:

Pursuant to section (k)(2) of the Privacy Act, 5 U.S.C. 552a(k)(2), the records contained within this system are exempt from the following sections of the Act: (c)(3), (d), (e)(1), (e)(4)(G), (e)(4)(H), (e)(4)(I), and (f).

JBEA-4

SYSTEM NAME:

Enrolled Actuary Enrollment Records—JBEA-4.

SYSTEM LOCATION:

Office of the Executive Director, Joint Board for the Enrollment of Actuaries (Joint Board), located in the Office of Professional Responsibility, Internal Revenue Service, Washington, DC; and Memphis, Tennessee.

CATEGORIES OF INDIVIDUALS COVERED BY THE SYSTEM:

Individuals currently or formerly enrolled as enrolled actuaries; applicants for such enrollment, including those who have appealed denial of applications for enrollment; and individuals who may not apply for enrollment even though they have requested a waiver of the requirements to take certain actuarial examinations or have taken actuarial examinations.

CATEGORIES OF RECORDS IN THE SYSTEM:

Applications for enrollment to perform actuarial services required by ERISA; requests for waiver of the requirements to take certain actuarial examinations; reports that individuals have engaged in misconduct in connection with taking actuarial examinations; records pertaining to the Joint Board's investigation and evaluation of individuals' eligibility for such enrollment; appeals from denials of applications for enrollment; records relating to enrollment examinations, including answer sheets and examination scores; applications for renewal of enrollment, including information on continuing education and requests for waiver of the continuing education requirements; requests for reinstatement of enrollment following termination for failure to renew enrollment; administrative records pertaining to enrollment status, including effective dates; and the Executive Director's and the Joint Board's decisions, letters, and other responses to individuals covered by this system.

AUTHORITY FOR MAINTENANCE OF THE SYSTEM:

Employee Retirement Income Security Act of 1974 (ERISA), Section 3042 (29 U.S.C. 1242).

PURPOSE(S):

To enforce and administer the regulations (20 CFR parts 900-903) of the Joint Board governing practice as an enrolled actuary under ERISA; to make available to the general public sufficient information to locate individuals enrolled to provide actuarial services required by ERISA and to verify individuals' enrollment status; and to assist public, quasi-public, or private professional authorities, agencies, organizations, and associations, and other law enforcement and regulatory authorities in the performance of their duties in connection with the administration and maintenance of standards of integrity, conduct, and discipline.

ROUTINE USES OF RECORDS MAINTAINED IN THE SYSTEM, INCLUDING CATEGORIES OF USERS AND THE PURPOSES OF SUCH USES:

Disclosure of returns and return information may be made only as provided by 26 U.S.C. 6103. All other records may be used as described below if the Joint Board deems the purpose of the disclosure to be compatible with the purpose for which the Joint Board collected the records and no privilege is asserted:

(1) Disclose information to the Department of Justice when seeking legal advice or for use in any proceeding, or in preparation for any proceeding, when: (a) The Joint Board, the Department of Labor, the Department of the Treasury, or the Pension Benefit Guaranty Corporation, or any component thereof; (b) any employee of such agencies in his or her official capacity; (c) any employee of such agencies in his or her individual capacity if the employing agency or the Department of Justice has agreed to provide representation for the employee; or (d) the United States is a party to, has an interest in, or is likely to be affected by, the proceeding; and the Joint Board determines that the information is relevant and necessary to the proceeding or advice sought.

(2) Disclose information during a proceeding before a court, administrative tribunal, or other adjudicative body when: (a) The Joint Board, the Department of Labor, the Department of the Treasury, or the Pension Benefit Guaranty Corporation, or any component thereof; (b) any employee of such agencies in his or her official capacity; (c) any employee of such agencies in his or her individual capacity if the employing agency or the Department of Justice has agreed to provide representation for the employee; or (d) the United States is a party to, has an interest in, or is likely to be affected by, the proceeding; and the Joint Board or the Department of Justice determines that the information is relevant and necessary to the proceeding. Information may be disclosed to the adjudicative body to resolve issues of relevancy, necessity, or privilege pertaining to the information.

(3) Disclose information to a Federal, state, local, tribal, or foreign agency, or other public authority, which has requested information relevant or necessary to hiring or retaining an employee or to issuing, or continuing, a contract, security clearance, license, grant, or other benefit.

(4) Disclose information to a Federal, state, local, tribal, or foreign agency or other public authority responsible for implementing or enforcing, or for investigating or prosecuting, the violation of a statute, rule, regulation, order, or license when a record on its face, or in conjunction with other records, indicates a violation or potential violation of law or regulation and the information disclosed is relevant to any regulatory, enforcement, investigative, or prosecutorial responsibility of the receiving authority.

(5) Disclose information to a contractor to the extent necessary to perform the contract.

(6) Disclose information to third parties during the course of an investigation to the extent deemed necessary by the Joint Board to obtain information pertinent to the investigation.

(7) Disclose information to officers and employees of the Department of Labor, the Department of the Treasury, and the Pension Benefit Guaranty Corporation who have a need for the information in the performance of their duties in connection with administering and enforcing ERISA, ERISA-related programs, or the Joint Board's regulations, or in connection with administering and maintaining standards of integrity, conduct, and discipline on the part of individuals authorized to practice, or who seek authorization to practice, before such agencies.

(8) Make available for public inspection or otherwise disclose to the general public (including via Web sites) the name, enrollment number, enrollment status, including effective dates, as well as mailing address, firm or company name, telephone number, fax number, e-mail address, and Web site address, pertaining to individuals who are, or were, enrolled actuaries.

(9) Disclose information to a public, quasi-public, or private professional authority, agency, organization, or association, which individuals covered by this system of records may be licensed by, subject to the jurisdiction of, a member of, or affiliated with, including but not limited to state bars and certified public accountancy boards, to assist such authorities, agencies, organizations, or associations in meeting their responsibilities in connection with the administration and maintenance of standards of integrity, conduct, and discipline.

(10) Disclose information to appropriate agencies, entities, and persons when (a) the Joint Board suspects or has confirmed that the security or confidentiality of information in the system of records has been compromised; (b) the Joint Board has determined that as a result of the suspected or confirmed compromise there is a risk of harm to economic or property interests, identity theft or fraud, or harm to the security or integrity of this system or other systems or programs (whether maintained by the Joint Board or another agency or entity) that rely upon the compromised information; and (c) the disclosure made to such agencies, entities, and persons is reasonably necessary to assist in connection with the Joint Board's efforts to respond to the suspected or confirmed compromise and prevent, minimize, or remedy such harm.

POLICIES AND PRACTICES FOR STORING, RETRIEVING, ACCESSING, RETAINING, AND DISPOSING OF RECORDS IN THE SYSTEM:

STORAGE:

Paper and electronic media.

RETRIEVABILITY:

By individual's name. Non-unique names will be distinguished by addresses.

SAFEGUARDS:

Access controls are not less than those provided in Internal Revenue Manual (IRM) 10.8.1, Information Technology (IT) Security—Policy and Guidance, and IRM 10.2.1, Physical Security Program.

RETENTION AND DISPOSAL:

No records will be destroyed until the National Archives and Records Administration approves a records control schedule. The Joint Board proposes the following schedule: Destroy records in enrolled actuary files 20 years after termination of enrollment. Destroy records in files of individuals who were never enrolled 10 years after the date of the last record added to the file.

SYSTEM MANAGER(S) AND ADDRESS:

Executive Director, Joint Board for the Enrollment of Actuaries, c/o Internal Revenue Service/Office of Professional Responsibility, SE:OPR, 1111 Constitution Avenue, NW., Washington, DC 20224.

NOTIFICATION PROCEDURE:

This system of records is exempt from the notification provisions of the Privacy Act.

RECORD ACCESS PROCEDURES:

This system of records is exempt from the record access provisions of the Privacy Act.

CONTESTING RECORD PROCEDURES:

This system of records is exempt from the record contesting provisions of the Privacy Act.

RECORD SOURCE CATEGORIES:

Individuals covered by this system of records; witnesses; Federal or state courts, agencies, bodies, and other licensing authorities; professional organizations and associations; Treasury Department records; and public records.

EXEMPTIONS CLAIMED FOR THE SYSTEM:

Pursuant to section (k)(2) of the Privacy Act, 5 U.S.C. 552a(k)(2), the records contained within this system are exempt from the following sections of the Act: (c)(3), (d), (e)(1), (e)(4)(G), (e)(4)(H), (e)(4)(I), and (f).

(3) JBEA-6

SYSTEM NAME:

Correspondence and Miscellaneous Records—JBEA-6.

SYSTEM LOCATION:

Office of the Executive Director, Joint Board for the Enrollment of Actuaries (Joint Board), located within the Office of Professional Responsibility, Internal Revenue Service, Washington, DC; and Memphis, Tennessee.

CATEGORIES OF INDIVIDUALS COVERED BY THE SYSTEM:

Individuals who correspond with the Joint Board, (including quality and improvement surveys), and individuals who are the subject of correspondence; individuals who request information, including requests pursuant to the Freedom of Information Act or the Privacy Act; and individuals who serve as point of contact for organizations (including organizations that apply for recognition as a sponsor of continuing education for enrolled actuaries).

CATEGORIES OF RECORDS IN THE SYSTEM:

Correspondence (including, but not limited to, letters, faxes, telegrams, and emails) sent and received; mailing lists of, and responses to, quality and improvement surveys of individuals; requests for information; requests for recognition as a sponsor of continuing education for enrolled actuaries; and the Executive Director's and the Joint Board's decisions, letters, and other responses to individuals covered by this system.

AUTHORITY FOR MAINTENANCE OF THE SYSTEM:

Employee Retirement Income Security Act of 1974 (ERISA), Section 3042 (29 U.S.C. 1242).

PURPOSE(S):

To enforce and administer the regulations (20 CFR parts 900-903) of the Joint Board governing practice as an enrolled actuary under ERISA; to permit the Joint Board to manage correspondence, to track responses from quality and improvement surveys, to manage workloads, and to collect and maintain other administrative records that are necessary for the Joint Board to perform its functions under the regulations.

ROUTINE USES OF RECORDS MAINTAINED IN THE SYSTEM, INCLUDING CATEGORIES OF USERS AND THE PURPOSES OF SUCH USES:

Disclosure of returns and return information may be made only as provided by 26 U.S.C. 6103. All other records may be used as described below if the Joint Board deems the purpose of the disclosure to be compatible with the purpose for which the Joint Board collected the records and no privilege is asserted:

(1) Disclose information to the Department of Justice when seeking legal advice or for use in any proceeding, or in preparation for any proceeding, when: (a) The Joint Board, the Department of Labor, the Department of the Treasury, or the Pension Benefit Guaranty Corporation, or any component thereof; (b) any employee of such agencies in his or her official capacity; (c) any employee of such agencies in his or her individual capacity if the employing agency or the Department of Justice has agreed to provide representation for the employee; or (d) the United States is a party to, has an interest in, or is likely to be affected by, the proceeding; and the Joint Board determines that the information is relevant and necessary to the proceeding or advice sought.

(2) Disclose information during a proceeding before a court, administrative tribunal, or other adjudicative body when: (a) The Joint Board, the Department of Labor, the Department of the Treasury, or the Pension Benefit Guaranty Corporation, or any component thereof; (b) any employee of such agencies in his or her official capacity; (c) any employee of such agencies in his or her individual capacity if the employing agency or the Department of Justice has agreed to provide representation for the employee; or (d) the United States is a party to, has an interest in, or is likely to be affected by, the proceeding; and the Joint Board or the Department of Justice determines that the information is relevant and necessary to the proceeding. Information may be disclosed to the adjudicative body to resolve issues of relevancy, necessity, or privilege pertaining to the information.

(3) Disclose information to a Federal, state, local, tribal, or foreign agency, or other public authority, which has requested information relevant or necessary to hiring or retaining an employee or to issuing, or continuing, a contract, security clearance, license, grant, or other benefit.

(4) Disclose information to a Federal, state, local, tribal, or foreign agency or other public authority responsible for implementing or enforcing, or for investigating or prosecuting, the violation of a statute, rule, regulation, order, or license when a record on its face, or in conjunction with other records, indicates a violation or potential violation of law or regulation and the information disclosed is relevant to any regulatory, enforcement, investigative, or prosecutorial responsibility of the receiving authority.

(5) Disclose information to a contractor to the extent necessary to perform the contract.

(6) Disclose information to officers and employees of the Department of Labor, the Department of the Treasury, and the Pension Benefit Guaranty Corporation who have a need for the information in the performance of their duties in connection with administering and enforcing ERISA, ERISA-related programs, or the Joint Board's regulations, or in connection with administering and maintaining standards of integrity, conduct, and discipline on the part of individuals authorized to practice, or who seek authorization to practice, before such agencies.

(7) Disclose information to appropriate agencies, entities, and persons when (a) the Joint Board suspects or has confirmed that the security or confidentiality of information in the system of records has been compromised; (b) the Joint Board has determined that as a result of the suspected or confirmed compromise there is a risk of harm to economic or property interests, identity theft or fraud, or harm to the security or integrity of this system or other systems or programs (whether maintained by the Joint Board or another agency or entity) that rely upon the compromised information; and (c) the disclosure made to such agencies, entities, and persons is reasonably necessary to assist in connection with the Joint Board's efforts to respond to the suspected or confirmed compromise and prevent, minimize, or remedy such harm.

POLICIES AND PRACTICES FOR STORING, RETRIEVING, ACCESSING, RETAINING, AND DISPOSING OF RECORDS IN THE SYSTEM:

STORAGE:

Paper and electronic media.

RETRIEVABILITY:

By individual's name. Non-unique names will be distinguished by addresses.

SAFEGUARDS:

Access controls are not less than those provided in Internal Revenue Manual (IRM) 10.8.1, Information Technology (IT) Security—Policy and Guidance, and IRM 10.2.1, Physical Security Program.

RETENTION AND DISPOSAL:

No records will be destroyed until the National Archives and Records Administration approves a records control schedule. The Joint Board proposes the following schedule: Destroy records concerning recognition as a sponsor of continuing education for enrolled actuaries 6 years after the expiration of the last sponsor enrollment cycle in which the sponsor received recognition. Destroy other correspondence 3 years after the date of the Executive Director's or the Joint Board's response, or if no response was required, 3 years after the date received.

SYSTEM MANAGER(S) AND ADDRESS:

Executive Director, Joint Board for the Enrollment of Actuaries, c/o Internal Revenue Service/Office of Professional Responsibility, SE:OPR, 1111 Constitution Avenue, NW., Washington, DC 20224.

NOTIFICATION PROCEDURE:

Individuals seeking to determine whether this system of records contains a record pertaining to themselves may inquire in accordance with instructions appearing at 20 CFR part 903. Inquiries should be addressed to the system manager listed above.

RECORD ACCESS PROCEDURES:

See “Notification Procedure” above.

CONTESTING RECORD PROCEDURES:

See “Notification Procedure” above.

RECORD SOURCE CATEGORIES:

Correspondents, including individuals and organizations; Treasury Department records.

EXEMPTIONS CLAIMED FOR THE SYSTEM:

None.

[FR Doc. 2010-32160 Filed 12-21-10; 8:45 am]

BILLING CODE 4830-01-P